ENVIRONMENTAL PROTECTION AGENCY

[FRL-12267-01-R9]

Clean Air Act Operating Permit Program; Order on Petition for Objection to State Operating Permit for Coolidge Generating Station

AGENCY: Environmental Protection Agency (EPA).

ACTION: Notice of final order on petition.

SUMMARY: The Environmental Protection Agency (EPA) Administrator signed an order dated September 11, 2024, granting in part and denying in part a petition dated May 13, 2024, from Sierra Club. The Petition requested that the EPA object to a Clean Air Act (CAA) title V operating permit issued by the Pinal County Air Quality Control District (PCAQCD) to the Salt River Project Agricultural Improvement and Power District's Coolidge Generating Station (“SRP Coolidge”), an electricity generating station located in Coolidge, Arizona.

FOR FURTHER INFORMATION CONTACT: Catherine Valladolid, EPA Region 9, (415) 947-4103, valladolid.catherine@epa.gov. The final Order and Petition are available electronically at: https://www.epa.gov/title-v-operating-permits/title-v-petition-database.

SUPPLEMENTARY INFORMATION: The EPA received a petition from Sierra Club dated May 13, 2024, requesting that the EPA object to the issuance of operating permit no. V20676.R02, issued by PCAQCD to SRP Coolidge in Coolidge, Arizona. On September 11, 2024, the EPA Administrator issued an order granting in part and denying in part the petition. The Order explains the basis for the EPA's decision.

Sections 307(b) and 505(b)(2) of the CAA provide that a petitioner may request judicial review of those portions of an order that deny issues in a petition. Any petition for review shall be filed in the United States Court of Appeals for the appropriate circuit no later than December 30, 2024.

Dated: October 21, 2024.
Martha Guzman Aceves,
Regional Administrator, Region IX.

[FR Doc. 2024-25153 Filed 10-29-24; 8:45 am]

BILLING CODE 6560-50-P